DEPARTMENT OF COMMERCE

National Oceanic and Atmospheric Administration

Notice of Availability of Record of Decision and Final Findings on Approvability for the Office of Ocean and Coastal Resource Management's Review of Amendments to the Alaska Coastal Management Program Final Environmental Impact Statement (EIS)

AGENCY: Department of Commerce, National Oceanic and Atmospheric Administration (NOAA), Office of Ocean and Coastal Resource Management.

ACTION: Notice of availability of Record of Decision and Final Findings of Approvability for Amendment to the Alaska Coastal Management Program.

SUMMARY: NOAA's Office of Ocean and Coastal Resource Management (OCRM) announces availability of the Record of Decision (ROD) and Final Findings of Approvability (Findings) for OCRM's Review of Amendments to the Alaska Coastal Management Program (ACMP) final Environmental Impact Statement (EIS). On June 2, 2005, OCRM received the State of Alaska's request to incorporate Executive Order 106, House Bills 191, 69, 86, Senate Bill 102, revisions to statute AS 46, and new implementing regulations at 11 AAC 110, 11 AAC 112, and 11 AAC 114 as an amendment to the ACMP. The new implementing regulations replace the existing consistence review procedure regulations previously found at 6 AAC 50, the statewide standards previously found at 6 AAC 80, and the district program guidelines previously found at 6 AAC 85 as the enforceable policies of the ACMP. The final EIS was released to the public for 30 days after the publication of a Notice of Availability in the Federal Register on November 25, 2005 (79 FR 71139). The ROD documents the selection of Alternative 1 (the NOAA preferred alternative) in the final EIS. The Findings make a final determination that the ACMP, as amended by the June 2, 2005, ACMP Amendment Document, still constitutes an approvable program and that procedural requirements of the CZMA and its implementing regulations have been met. The ROD and Findings were signed by the Deputy Assistant Administrator, National Ocean Service (NOS) on December 29, 2005. Federal consistency applies to the revised ACMP enforceable policies as of December 29, 2005.

ADDRESSES: A copy of the ROD and the Findings may be obtained from Helen Bass, Environmental Protection Specialist, National Oceanic and Atmospheric Administration, OCRM/CPD, N/ORM3, Station 11207, 1305 East-West Highway, Silver Spring, MD 20910, or at Helen.Bass@noaa.gov, (301) 713-3155, extension 175 (telephone) and 301-713-4367 (FAX). The documents are also available on OCRM's Web site at http://coastalmanagement.noaa.gov/pcd/up.html.

FOR FURTHER INFORMATION CONTACT: Bill Millhouser, Pacific Regional Team Leader, National Oceanic and Atmospheric Administration, OCRM/CPD, N/ORM3, Station 11204, 1305 East-West Highway, Silver Spring, MD 20910, or Bill.Millhouser@noaa.gov, (301) 713-3155, extension 189, (telephone), 301-713-4367 (FAX).

SUPPLEMENTARY INFORMATION: The following is a summary of the ROD and the Findings. On June 2, 2005, Alaska formally submitted to NOAA a request to amend the ACMP.

The amendment included the above-referenced laws and new implementing regulations, which replace the existing consistency review procedure regulations previously found at 6 AAC 50, the statewide standards previously found at 6 AAC 80, and the district program guidelines previously found at 6 AAC 85. The Rod selects final EIS Alternative 1, Approve Alaska's Request for Amendment of the ACMP. OCRM arrived at this decision while taking environmental, economic, and agency statutory mission considerations into account, as discussed in greater detail in the ROD and Section 10 of the final EIS. The Findings provide an analysis of how the ACMP, as amended, meets the requirements of the CZMA at 15 CFR part 923, including uses subject to management, special management areas, boundaries, authorities and organization, and coordination, public involvement, and national interest.

The following factors weighed most heavily in OCRM's decision: (1) Continued ACMP approvability as amended by the proposed program change; and (2) impacts to coastal resources and communities associated with the continued existence of the ACMP. OCRM approved the ACMP amendment because OCRM believes Alternative 1 meets the program change requirements of the CZMA, and will be the best opportunity for continued comprehensive protection of Alaska's coastal resources. OCRM did not select either Alternative 2 (Failure to Approve Alaska's Request for Amendment of the ACMP) or Alternative 3 (Deny Alaska's Request for Amendment of the ACMP) because both ultimately would have resulted in the repeal and termination of the ACMP. Termination of the ACMP would potentially lead to adverse physical and socio-economic impacts to coastal resources and communities associated with (1) lack of Federal consistency requirements available only through participation in the national coastal management program; (2) loss of funding for implementation of the ACMP; and (3) loss of Alaska's comprehensive coastal management program which allows for district participation in State coastal resource management decisions. In addition, the ROD identifies mitigation and monitoring measures OCRM will implement as part of its continued oversight of Alaska's implementation of the ACMP.

(Federal Domestic Assistance Catalog 11.419 Coastal Zone Management Program Administration)
Dated: January 6, 2006.
Eldon Hout,
Director, Office of Ocean and Coastal Resource Management, National Ocean Service, National Oceanic and Atmospheric Administration.

[FR Doc. 06-356 Filed 1-13-06; 8:45 am]

BILLING CODE 3510-08-M